DEPARTMENT OF AGRICULTURE

Submission for OMB Review; Comment Request

February 6, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 11, 2020 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Quality Control Review Schedule (FNS 380)

OMB Control Number: 0584-0074

Summary of Collection: Section 16 of the Food and Nutrition Act of 2008 provides the legislative basis for the operation of the Quality Control (QC) system. Part 275, Subpart C, of SNAP regulations implements the legislative mandates found in Section 16. Regulations at 7 CFR 275.1, 275.14(d) and 275.21(a) and (b)(1) provide the regulatory basis for the QC reporting requirements. Section 11(a) of the Food and Nutrition Act of 2008 provides the legislative basis for the recordkeeping requirements. SNAP regulations, at 7 CFR 272.1(f), specify that program records must be retained for three years from the month of origin. Regulations at 7 CFR 275.4 specifically address record retention requirements for form FNS-380.

State agencies are required to perform Quality Control (QC) reviews for the Supplemental Nutrition Assistance Program (SNAP). In order to determine the accuracy of SNAP benefits authorized by State agencies, a statistical sample of SNAP cases is selected for review from each State agency. Relevant information from the case record, investigative work and documentation about individual cases is recorded on the form FNS-380, Worksheet for SNAP Quality Control Reviews.

The purpose is for State agencies to analyze each household case record including planning and carrying out the field investigation; gathering, comparing, analyzing and evaluating the review of data and forwarding selected cases to the Food and Nutrition Service for Federal validation, for the entire caseload.

Need and Use of the Information: Form FNS-380, is a SNAP worksheet used to determine eligibility and benefits for households selected for review in the quality control sample of active cases and to ensure program integrity. FNS will produce a report of our findings.

Description of Respondents: 53 State, Local, or Tribal Government; 45,497 Individuals/Households

Number of Respondents: 45,550

Frequency of Responses: Reporting; Recordkeeping: Annually

Total Burden Hours: 405,995

Ruth Brown,
Departmental Information Collection Clearance Officer.

[FR Doc. 2020-02659 Filed 2-10-20; 8:45 am]

BILLING CODE 3410-30-P